DEPARTMENT OF COMMERCE

National Oceanic and Atmospheric Administration

RIN 0648-XO17

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Scallop Survey Advisory Panel in April, 2009 to consider actions affecting New England fisheries in the exclusive economic zone (EEZ). Recommendations from this group will be brought to the full Council for formal consideration and action, if appropriate.

DATES: This meeting will be held on Monday, April 6, 2009 at 9 a.m.

ADDRESSES: Meeting address: This meeting will be held at the Holiday Inn, 31 Hampshire Street, Mansfield, MA 02048; telephone: (508) 339-2200; fax: (508) 339-1040.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Sea Scallop Survey Advisory Panel (SSAP) will meet to review 2008 survey research and plans for 2009 research projects. The SSAP will recommend changes in research priorities to develop improved scallop survey data collection and analysis methods. The SSAP will also develop and recommend a peer review process to analyze the new survey dredge calibrations and also to evaluate the strengths, weaknesses, and utility of existing survey technologies. The SSAP will also develop recommendations for implementation of integrated, multi-technology annual scallop resource surveys. Other issues may also be discussed and recommendations will be presented to the New England Fishery Management Council for approval.

This meeting is physically accessible to people with disabilities. Requests for sign language interpretation or other auxiliary aids should be directed to Paul J. Howard, Executive Director, at 978-465-0492, at least 5 days prior to the meeting date.

Authority: 16 U.S.C. 1801 et seq.

Dated: March 16, 2009
Tracey L. Thompson,
Acting Director, Office of Sustainable Fisheries, National Marine Fisheries Service.

[FR Doc. E9-5937 Filed 3-18-09; 8:45 am]

BILLING CODE 3510-22-S